TENNESSEE VALLEY AUTHORITY

Meeting of the Regional Energy Resource Council

AGENCY: Tennessee Valley Authority (TVA).

ACTION: Notice of meeting.

SUMMARY: The TVA Regional Energy Resource Council (RERC) will hold a meeting on Tuesday, May 2 and Wednesday, May 3, 2017, regarding regional energy related issues in the Tennessee Valley.

The RERC was established to advise TVA on its energy resource activities and the priorities among competing objectives and values. Notice of this meeting is given under the Federal Advisory Committee Act (FACA), 5 U.S.C. App.2.

The meeting agenda includes the following:

1. Welcome and Introductions

2. TVA Updates

3. Presentations regarding Technology, and Research and Development

4. Public Comments

5. Council Discussion

The RERC will hear views of citizens by providing a public comment session starting at 9:00 a.m. EDT, on Wednesday, May 3. The public comment session may last up to one hour. Persons wishing to speak are requested to register at the door by 8:45 a.m. on Wednesday, May 3, and will be called on during the public comment period. Handout materials should be limited to one printed page. Written comments are also invited and may be mailed to the Regional Energy Resource Council, Tennessee Valley Authority, 400 West Summit Hill Drive, WT-9D, Knoxville TN 37902.

DATES: The meeting will be held on Tuesday, May 2, from 8:30 a.m. to 11:45 a.m. and on Wednesday, May 3, from 8:30 a.m. to noon EDT.

ADDRESSES: The meeting will be held at the Holiday Inn Knoxville Downtown/World's Fair Site, 525 Henley Street, Knoxville, TN 37902 and will be open to the public. Anyone needing special access or accommodations should let the contact below know at least a week in advance.

FOR FURTHER INFORMATION CONTACT: Barbie Perdue, 400 West Summit Hill Drive, WT-9D, Knoxville, Tennessee 37902, (865) 632-6113.

Dated: April 10, 2017.
Joseph J. Hoagland,
Vice President, Enterprise Relations and Innovation, Tennessee Valley Authority.

[FR Doc. 2017-07552 Filed 4-13-17; 8:45 am]

BILLING CODE 8120-08-P